DEPARTMENT OF ENERGY

Federal Energy Regulatory Commission

[Project No. 15094-001]

Ohio Power and Light, LLC; Notice of Intent To File License Application, Filing of Pre-Application Document, and Approving Use of the Traditional Licensing Process

a. Type of Application: Notice of Intent (NOI) to File License Application and Request to Use the Traditional Licensing Process (TLP).

b. Project No.: 15094-001.

c. Date filed: April 22, 2022.

d. Submitted by: Ohio Power and Light, LLC (Ohio Power and Light).

e. Name of Project: Robert C. Byrd Hydroelectric Project.

f. Location: The project would be located on the Ohio River, at the existing U.S. Army Corps of Engineers' (Corps) Robert C. Byrd Locks and Dam, near the Town of Gallipolis, in Gallia County, Ohio and the Town of Gallipolis Ferry, Mason County, West Virginia. The project would occupy 5 acres of federal land administered by the Corps.

g. Filed Pursuant to: 18 CFR 5.3 of the Commission's regulations.

h. Potential Applicant Contact: Mr. Roy Powers, Chief Operations Officer, Current Hydro, LLC, Post Office Box 224, Rhinebeck, NY 12572. Phone: (914) 805-2522, Email: Roy@currenthydro.com.

i. FERC Contact: Andy Bernick, Phone: (202) 502-8880, Email: andrew.bernick@ferc.gov.

j. Ohio Power and Light filed its request to use the TLP on April 22, 2022 and provided public notice of its request on April 30, 2022. In a letter dated June 16, 2022, the Director of the Division of Hydropower Licensing approved Ohio Power and Light's request to use the TLP.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the West Virginia Historic Preservation Officer, as required by section 106, National Historic Preservation Act, and the implementing regulations of the Advisory Council on Historic Preservation at 36 CFR 800.2.

l. With this notice, we are designating Ohio Power and Light as the Commission's non-federal representative for carrying out informal consultation pursuant to section 7 of the Endangered Species Act; and consultation pursuant to section 106 of the National Historic Preservation Act.

m. Ohio Power and Light filed a Pre-Application Document (PAD; including a proposed process plan and schedule) with the Commission, pursuant to 18 CFR 5.6 of the Commission's regulations.

n. A copy of the PAD may be viewed on the Commission's website (https://www.ferc.gov), using the “eLibrary” link. Enter the docket number, excluding the last three digits in the docket number field, to access the document. For assistance, contact FERC Online Support at FERCOnlineSupport@ferc.gov, (866) 208-3676 (toll free), or (202) 502-8659 (TTY).

o. The applicant states its unequivocal intent to submit an application for an original license for Project No. 15094.

p. Register online at https://www.ferc.gov/docs-filing/esubscription.asp to be notified via email of new filing and issuances related to this or other pending projects. For assistance, contact FERC Online Support.

Dated: June 16, 2022.
Debbie-Anne A. Reese,
Deputy Secretary.

[FR Doc. 2022-13465 Filed 6-23-22; 8:45 am]

BILLING CODE 6717-01-P